DEPARTMENT OF HEALTH AND HUMAN SERVICES

Administration for Children and Families

Submission for OMB Review; Formative Evaluation of Family Unification Program (FUP) Vouchers for Youth Transitioning Out of Foster Care (New Collection)

AGENCY: Office of Planning, Research, and Evaluation; Administration for Children and Families; HHS.

ACTION: Request for public comment.

SUMMARY: The Administration for Children and Families (ACF), Office of Planning, Research, and Evaluation is requesting public comment on data collection activities as part of the Formative Evaluation of Family Unification Program (FUP) Vouchers for Youth Transitioning Out of Foster Care. The purpose of the request is to conduct information collection activities, including an online survey, interviews, and focus group discussions.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The ACF Office of Planning, Research, and Evaluation is proposing a new information collection. The information collection activities are part of the Formative Evaluation of Family Unification Program (FUP) Vouchers for Youth Transitioning Out of Foster Care. The purpose of the request is to conduct information collection activities, which consist of an online survey of FUP liaisons from agencies and organizations serving transition-age youth in foster care and site visits to selected agencies and organizations that have allocated a significant number of FUP vouchers to youth. During site visits, staff from the Urban Institute and Chapin Hall at the University of Chicago will interview agency and program leaders, frontline staff, and participants. The information collection also includes collection of administrative data from sites selected for visits. This descriptive work will capture how FUP for youth has been administered on the ground, how eligible youth are identified and referred by the public child welfare agency (PCWA), barriers to obtaining a voucher or leasing-up into housing, what public housing authorities (PHAs) and public child welfare agencies have done to streamline the application process, and other aspects of program operations. The activities and products from this project will help ACF to fulfill its ongoing legislative mandate for program evaluation specified in the Foster Care Independence Act of 1999.

Respondents: PCWA and PHA agency administrators, program managers/FUP liaisons, front-line staff, and young adults being served by FUP.

Annual Burden Estimates
Instrument | Total number of respondents | Annual number of respondents | Number of responses per respondent | Average burden hours per response | Annual burden hours
PHA survey | 111 | 56 | 1 | 0.58 | 32
PCWA survey | 72 | 36 | 1 | 0.58 | 21
CoC survey | 99 | 50 | 1 | 0.58 | 29
Interview guide for FSS manager | 8 | 4 | 1 | 1 | 4
Interview guide for CoC lead organization administrator and FUP liaison | 16 | 8 | 1 | 1 | 8
Focus group guide for PHA intake workers and case managers | 192 | 96 | 1 | 1.5 | 144
Focus group guide for PCWA caseworkers, referring partners, and service provider partners | 312 | 156 | 1 | 1.5 | 234
Interview guide for service provider FUP leads | 7 | 4 | 1 | 1 | 4
Interview guide for PCWA administrator and FUP liaison | 16 | 8 | 1 | 1 | 8
Interview guide for PHA administrator and FUP liaison | 16 | 8 | 1 | 1 | 8
Focus group guide for youth | 96 | 48 | 1 | 1.5 | 72
Administrative data list | 24 | 12 | 1 | 5 | 60
Total |  |  |  |  | 624

Estimated Total Annual Burden Hours: 624.

Authority: Title IV-E of the Social Security Act, IV-E § 477(g)(1-2), as amended by the Foster Care Independence Act of 1999.

Mary B. Jones,
ACF/OPRE Certifying Officer.

[FR Doc. 2020-02315 Filed 2-5-20; 8:45 am]

BILLING CODE 4184-01-P